DEPARTMENT OF LABOR

Employment and Training Administration

[TA-W-58,001]

Lea Industries, La-Z-Boy Greensboro, Inc., Morristown, TN; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on October 28, 2005, applicable to workers of Lea Industries, La-Z-Boy Greensboro, Inc., Morristown, Tennessee. The notice will soon be published in the Federal Register.

At the request of the State Agency, the Department reviewed the certification for workers of the subject firm. The workers receive, inspect, ship, and warehouse bedroom and dining room furniture.

The firm formerly produced bedroom furniture at this facility and all workers of Lea Industries in Morristown, Tennessee, were certified eligible to apply for worker adjustment assistance under petition number TA-W-52,200, that expired July 22, 2005.

In order to avoid an overlap in worker group coverage, the Department is amending the current certification for workers of Lea Industries, La-Z-Boy Greensboro, Inc., Morristown, Tennessee, to change the impact date from September 16, 2004 to July 23, 2005.

The amended notice applicable to TA-W-58,001 is hereby issued as follows:

All workers of Lea Industries, a division of La-Z-Boy Greensboro Inc., Morristown, Tennessee, who became totally or partially separated from employment on or after July 23, 2005, through two years from the date of certification, are eligible to apply for adjustment assistance under section 223 of the Trade Act of 1974, and are also eligible to apply for alternative trade adjustment assistance under section 246 of the Trade Act of 1974.

Signed in Washington, DC, this 8th day of November, 2005.
Linda G. Poole,
Certifying Officer, Division of Trade Adjustment Assistance.

[FR Doc. E5-6462 Filed 11-22-05; 8:45 am]

BILLING CODE 4510-30-P